DEPARTMENT OF COMMERCE

International Trade Administration

[A-122-838]

Certain Softwood Lumber Products from Canada: Extension of the Time Limit for the Preliminary Results of Antidumping Duty Administrative Review

AGENCY: Import Administration, International Trade Administration, Department of Commerce.

EFFECTIVE DATE: January 14, 2004.

FOR FURTHER INFORMATION CONTACT: Constance Handley at (202) 482-0631 or David Layton at (202) 482-0371, Office 5, AD/CVD Enforcement, Import Administration, International Trade Administration, U.S. Department of Commerce, 14th Street and Constitution Avenue, NW, Washington, DC 20230.

Statutory Time Limits

Section 751(a)(3)(A) of the Tariff Act of 1930, as amended (the Act), requires the Department of Commerce (the Department) to complete the preliminary results of an administrative review within 245 days after the last day of the anniversary month of an order/finding for which a review is requested and the final results within 120 days after the date on which the preliminary results are published. However, if it is not practicable to complete the review within these time periods, section 751(a)(3)(A) of the Act allows the Department to extend the time limit for the preliminary results to a maximum of 365 days after the last day of the anniversary month of an order/finding for which a review is requested, and for the final results to 180 days (or 300 days if the Department does not extend the time limit for the preliminary results) from the date of publication of the preliminary results.

Background

On May 1, 2003, the Department published a notice of opportunity to request the first administrative review of this order. See Antidumping or Countervailing Duty Order, Finding, or Suspended Investigation; Opportunity to Request Administrative Review, 68 FR 23281 (May 1, 2003). On May 30, 2003, in accordance with 19 CFR 351.213(b), the Coalition for Fair Lumber Imports Executive Committee (the petitioner) requested a review of producers/exporters of certain softwood lumber products. Also, between May 7, and June 2, 2003, Canadian producers requested a review on their own behalf or had a review of their company requested by a U.S. importer.

On July 1, 2003, the Department of Commerce (the Department) published a notice of initiation of administrative review of the antidumping duty order on certain softwood lumber products from Canada, covering the period May 22, 2002, through April 30, 2003. See Notice of Initiation of Antidumping Duty Administrative Review, 68 FR 39059 (July 1, 2003). The preliminary results are currently due no later than February 2, 2004.

Extension of Time Limit for Preliminary Results of Review

We determine that it is not practicable to complete the preliminary results of this review within the original time limit due to a number of complex issues which must be addressed prior to the issuance of those results. For example, the Department must analyze the complex corporate structures and affiliations of the eight respondents in this review, including affiliated mills and other entities both in Canada and the United States. In addition, the Department must evaluate and address a myriad of issues pertaining to the allocation of production costs and the calculation of adjustments for differences in merchandise. Further, the Department needs to evaluate and resolve the complicated issue involving treatment of random length tally sales, which are defined as sales which contain multiple lengths, for which a blended (i.e. average) price has been reported by the respondents. Finally, as is our practice, the Department intends to conduct verification of the eight respondents prior to the issuance of the preliminary results. We estimate that the sales and cost of production verifications will take approximately two months to complete.

Accordingly, the Department is extending the time limit for completion of the preliminary results of this administrative review until no later than June 1, 2004. We intend to issue the final results no later than 120 days after publication of the preliminary results notice.

Dated: January 8, 2004.
Holly Kuga,
Acting Deputy Assistant Secretary for AD/CVD Enforcement II.

[FR Doc. 04-831 Filed 1-13-04; 8:45 am]

BILLING CODE 3510-DS-S